NATIONAL COUNCIL ON DISABILITY

Cultural Diversity Advisory Committee Meetings (Teleconferences)

Times and Dates:

November 16, 2006, 3 p.m. Eastern.

February 16, 2007, 3 p.m. Eastern.

May 17, 2007, 3 p.m. Eastern.

July 19, 2007, 3 p.m. Eastern.

September 20, 2007, 3 p.m. Eastern.

Place: NCD, 1331 F Street, NW., Suite 850, Washington, DC.

AGENCY: NCD.

Status: All parts of these conference calls will be open to the public for observation only. Those interested in observing on conference calls should contact the appropriate staff member listed below. Due to limited resources, only a few telephone lines will be available for each conference call.

Agenda: Roll call, announcements, reports, new business, adjournment.

FOR FURTHER INFORMATION CONTACT: Gerrie Drake Hawkins, Ph.D., Senior Program Analyst, NCD, 1331 F Street, NW., Suite 850, Washington, DC 20004; 202-272-2004 (voice), 202-272-2074 (TTY), 202-272-2022 (fax), cultural-diversity@ncd.gov (e-mail).

Cultural Diversity Advisory Committee Mission: The purpose of NCD's Cultural Diversity Advisory Committee is to provide advice and recommendations to NCD on issues affecting people with disabilities from culturally diverse backgrounds. Specifically, the committee will help identify issues, expand outreach, infuse participation, and elevate the voices of underserved and unserved segments of this nation's population that will help NCD develop federal policy that will address the needs and advance the civil and human rights of people from diverse cultures.

Accommodations: Those needing reasonable accommodations should notify NCD at least two weeks before this meeting.

Language Translation: In accordance with Executive Order 13166, Improving Access to Services for Persons with Limited English Proficiency, those people with disabilities who are limited English proficient and seek translation services for this meeting should notify NCD at least two weeks before this meeting.

Dated: October 3, 2006.
Martin Gould,
Acting Executive Director.

[FR Doc. E6-16710 Filed 10-10-06; 8:45 am]

BILLING CODE 6820-MA-P